OFFICE OF PERSONNEL MANAGEMENT

Excepted Service

AGENCY: U.S. Office of Personnel Management (OPM).

ACTION: Notice.

SUMMARY: This notice identifies Schedule A, B, and C appointing authorities applicable to a single agency that were established or revoked from November 1, 2016 to November 30, 2016.

FOR FURTHER INFORMATION CONTACT: Senior Executive Resources Services, Senior Executive Service and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A authorities to report during November 2016.

Schedule B

No schedule B authorities to report during November 2016.

Schedule C

The following Schedule C appointing authorities were approved during November 2016.

Agency name | Organization name | Position title | Authorization No. | Effective date
Department of Commerce | Office of Executive Secretariat | Confidential Assistant | DC170009 | 11/09/2016
Council on Environmental Quality | Office of the Director | Special Assistant for Legislative Affairs | EQ170001 | 11/08/2016
Department of Defense | Office of the Under Secretary of Defense (Acquisition, Technology, and Logistics) | Special Assistant for Energy, Installations and Environment | DD170010 | 11/09/2016
| Office of the Assistant Secretary of Defense (Legislative Affairs) | Special Assistant | DD170008 | 11/15/2016
| Washington Headquarters Services | Defense Fellow (2) | DD170009 DD170017 | 11/15/2016 11/30/2016
| Office of the Secretary of Defense | Deputy White House Liaison | DD170011 | 11/22/2016
Department of Energy | Office of the Secretary | Deputy White House Liaison and Leadership Development Director Advisor for Operations and Support | DE170009 DE170011 | 11/22/2016 11/22/2016
| Office of Management | Special Advisor for Strategic Planning | DE170010 | 11/22/2016
Environmental Protection Agency | Office of the Administrator | Deputy White House Liaison | EP170006 | 11/17/2016
General Services Administration | Office of Congressional and Intergovernmental Affairs | Congressional Relations Specialist | GS170002 | 11/09/2016
Department of Health and Human Services | National Institutes of Health | Chief of Staff and Senior Policy Director | DH170003 | 11/03/2016
| Administration for Children and Families | Public Affairs Specialist | DH170025 | 11/09/2016
Department of Homeland Security | Office of the Assistant Secretary for Policy | Deputy Director for Asia-Pacific | DM170021 | 11/15/2016
Department of Housing and Urban Development | Office of Field Policy and Management | Special Assistant | DU170004 | 11/22/2016
Department of Labor | Wage and Hour Division | Deputy Chief of Staff | DL170004 | 11/01/2016
| Office of the Deputy Secretary | Policy Advisor | DL170005 | 11/08/2016
| Office of Public Affairs | Press Secretary | DL170007 | 11/09/2016
Office of Management and Budget | Office of the Director | Senior Advisor | BO170003 | 11/02/2016
|  | Special Assistant | BO170005 | 11/29/2016
Department of State | Office of the Secretary | Senior Advisor | DS170005 | 11/21/2016
Department of Transportation | Immediate Office of the Administrator | Special Assistant | DT170022 | 11/22/2016
Department of the Treasury | Department of the Treasury | Special Assistant (2) | DY170012 | 11/15/2016
|  |  | DY170017 | 11/22/2016
|  | Senior Advisor (2) | DY170013 | 11/15/2016
|  |  | DY170020 | 11/22/2016
|  | Confidential Assistant | DY170015 | 11/21/2016
|  | Senior Advisor for Housing | DY170016 | 11/22/2016
|  | Associate Director (2) | DY170018 | 11/22/2016
|  |  | DY170019 | 11/22/2016

The following Schedule C appointing authorities were revoked during November 2016.

Agency name | Organization name | Position title | Request No. | Date vacated
Department of Agriculture | Farm Service Agency | State Executive Director—Hawaii | DA130171 | 11/30/2016
Department of Commerce | Office of Executive Secretariat | Deputy Director | DC150163 | 11/12/2016
|  | Special Advisor to the Director | DC160024 | 11/12/2016
| Office of Policy and Strategic Planning | Senior Policy Advisor | DC150147 | 11/17/2016
Department of Education | Office of Career Technical and Adult Education | Director of Policy | DB160012 | 11/18/2016
| Office of Communications and Outreach | Special Assistant | DB140095 | 11/18/2016
| Office of the Secretary | Director of Strategic Initiatives | DB160075 | 11/20/2016
| Office of the Under Secretary | Executive Director of the White House Initiative on American Indian and Alaska Native Education | DB120066 | 11/25/2016
Department of Health and Human Services | Office of the Assistant Secretary for Public Affairs | Senior Communications Director | DH160034 | 11/26/2016
Department of Housing and Urban Development | Office of Public and Indian Housing | Special Policy Advisor | DU150043 | 11/12/2016
Department of the Interior | Bureau of Reclamation | Special Assistant | DI160073 | 11/09/2016
Department of Justice | Office of Public Affairs | Press Assistant | DJ140126 | 11/18/2016
Department of Labor | Office of Congressional and Intergovernmental Affairs | Legislative Officer | DL150067 | 11/05/2016
Small Business Administration | Office of the Administrator | Idea Lab Director | SB150043 | 11/12/2016

Authority: 5 U.S.C. 3301 and 3302; E.O. 10577, 3 CFR, 1954-1958 Comp., p. 218.

U.S. Office of Personnel Management.
Kathleen M. McGettigan,
Acting Director.

[FR Doc. 2017-03870 Filed 2-27-17; 8:45 am]

BILLING CODE 6325-39-P